DEPARTMENT OF COMMERCE

National Oceanic and Atmospheric Administration

Announcement of Waquoit Bay National Estuarine Research Reserve Revised Management Plan

AGENCY: Estuarine Reserves Division, Office of Ocean and Coastal Resource Management, National Ocean Service, National Oceanic and Atmospheric Administration, U.S. Department of Commerce.

ACTION: Notice of Approval and Availability of the Final Revised Management Plan for the Waquoit Bay National Estuarine Research Reserve.

SUMMARY: Notice is hereby given that the Estuarine Reserves Division, Office of Ocean and Coastal Resource Management, National Ocean Service, National Oceanic and Atmospheric Administration (NOAA), U.S. Department of Commerce has approved the revised management plan for the Waquoit Bay National Estuarine Research Reserve (Reserve).

The Reserve was designated in 1988 pursuant to Section 315 of the Coastal Zone Management Act of 1972, as amended, 16 U.S.C. 1461 and has been operating under the management plan approved in 2000. Pursuant to 15 CFR Section 921.33(c), a state must revise its management plan every five years. The submission of this plan fulfills this requirement and sets a course for successful implementation of the goals and objectives of the Reserve.

The mission of the Reserve management plan is to improve the stewardship of the region's estuarine and coastal watershed ecosystems. The management plan identifies the following priority issues facing the Reserve: Water quality/eutrophication/watershed land-use; climate change/sea level rise/shoreline change; and assessment of ecosystem response to natural variability and human impacts.

The management plan identifies five goals that are addressed through active management. The goals are (l) improve the understanding of coastal ecosystems and the human influences on them, (2) improve environmental literacy in communities to enable environmentally-sustainable decision-making, (3) demonstrate sustainable stewardship of the land and water ecosystems within the Reserve to serve as a model for community stewardship in the region, (4) foster dialogue and development of coastal ecosystem management solutions through sustained community engagement, (5) improve operations, infrastructure and stature of the Reserve.

The Reserve's management plan addresses these goals with specific programs for resource management and protection and stewardship, research and monitoring, education and training, public access and visitor use, program administration, and partnerships and regional coordination.

FOR FURTHER INFORMATION CONTACT: Doris Grimm at (301) 563-7101 or Kate Barba, Acting Chief, Estuarine Reserves Division at (301) 563-1158 of NOAA's National Ocean Service, Estuarine Reserves Division, 1305 East-West Highway, N/ORM5, 10th floor, Silver Spring, MD 20910.

Dated: August 25, 2006.
David M. Kennedy,
Director, Office of Ocean and Coastal Resource Management, National Oceanic and Atmospheric Administration.

[FR Doc. E6-14430 Filed 8-29-06; 8:45 am]

BILLING CODE 3510-JE-P